DEPARTMENT OF AGRICULTURE

Forest Service

North Central Idaho Resource Advisory Committee

AGENCY: Forest Service, USDA.

ACTION: Notice of meetings.

SUMMARY: The North Central Idaho RAC will meet in Grangeville, Idaho. The committee is meeting as authorized under the Secure Rural Schools and Community Self-Determination Act (Pub. L. 110-343) and in compliance with the Federal Advisory Committee Act. The purpose of the meeting is to select projects for 2011 and hear presentations on 2012 projects. The February 23-24 RAC meeting was cancelled due to inclement weather.

DATES: The meeting will be held on March 24th and 25th 2011, at 10 a.m. (PST).

ADDRESSES: The meeting will be held at the Nez Perce National Forest Supervisors Office, 104 Airport Road, Grangeville, Idaho. Written comments should be sent to Laura Smith at 104 Airport Road in Grangeville, Idaho 83530. Comments may also be sent via e-mail to lasmith@fs.fed.us or via facsimile to Laura at 208-983-4099.

FOR FURTHER INFORMATION CONTACT: Laura Smith, Designated Forest Official at 208-983-5143.

SUPPLEMENTARY INFORMATION: The meeting is open to the public. A public forum will begin at 3:15 p.m. (PST) on the first meeting day. The following business will be conducted: Comments and questions from the public to the committee. Persons who wish to bring related matters to the attention of the Committee may file written statements with the Committee staff before or after the meeting.

Dated: March 1, 2011.
Rick Brazell,
Forest Supervisor.

[FR Doc. 2011-5106 Filed 3-8-11; 8:45 am]

BILLING CODE 3410-11-P